DEPARTMENT OF HEALTH AND HUMAN SERVICES

HHS Public Health Emergency Medical Countermeasures Enterprise (PHEMCE) Stakeholders Workshop 2009 and BARDA Industry Day

ACTION: Notice.

SUMMARY: The Department of Health and Human Services (HHS) is pleased to announce the upcoming HHS Public Health Emergency Medical Countermeasures Enterprise (PHEMCE) Stakeholders Workshop 2009 and BARDA Industry Day to be held December 2-4, 2009, at the Marriott Wardman Park Hotel in Washington, DC. This annual PHEMCE event will bring together private- and public-sector stakeholders including: Federal Officials, International Governments, Industry, Healthcare Providers, First Responders, Community-Based Organizations, and other interested audiences. Attendees will have opportunities to participate in forums on:

• Best Practices for Dispensing Medical Countermeasures

• Current and Future PHEMCE Initiatives

• Maximizing Resources in a Public Health Emergency Response

• Medical Countermeasure Development Initiatives

• The Regulatory Pathway for Medical Countermeasures

• BARDA Industry Day Presentations

This free Workshop will also address plans to enhance national response capabilities and the current state of public health emergency medical countermeasure preparedness. There will be a joint plenary session on Wednesday, December 2nd with HHS Public Health Emergency Medical Countermeasure Enterprise Stakeholders Workshop 2009 and the American Medical Associations Third National Congress on Health System Readiness.

BARDA Industry Day provides a unique opportunity for biotechnology and pharmaceutical industry representatives to showcase their latest breakthroughs in vaccines, therapeutics, diagnostics, and platform technologies targeting chemical, biological, radiological, nuclear, and naturally emerging threats, including pandemic influenza.

DATES: The Stakeholders Workshop 2009 & BARDA Industry Day will be held December 2-4, 2009. Each day will begin at 9 a.m.

ADDRESSES: The Workshop will be held at the Marriott Wardman Park Hotel, 2660 Woodley Road, NW., Washington, DC 20008.

Registration: There is no fee to attend; however, space is limited and registration is required. Registration and the preliminary agenda are available online at: http://www.medicalcountermeasures.gov.

FOR FURTHER INFORMATION CONTACT: L. Paige Rogers, Office of the Biomedical Advanced Research and Development Authority, Office of the Assistant Secretary for Preparedness and Response at 330 Independence Ave., SW., Room G640, Washington, DC 20201, e-mail at BARDA @ hhs.gov, or by phone at 202-260-1200.

Dated: October 27, 2009.
Nicole Lurie,
Assistant Secretary for Preparedness and Response Rear Admiral, U.S. Public Health Service.

[FR Doc. E9-26375 Filed 11-2-09; 8:45 am]

BILLING CODE 4150-37-P